ENVIRONMENTAL PROTECTION AGENCY

[FRL-9320-9]

Meeting of the Local Government Advisory Committee and Small Community Advisory Subcommittee

AGENCY: Environmental Protection Agency (EPA).

ACTION: Notice.

SUMMARY: The U.S. EPA's Local Government Advisory Committee (LGAC) and Small Communities Advisory Subcommittee (SCAS) will meet July 14-15, 2011, in Chicago, Illinois. The Committee meeting will be held at U.S. EPA Region 5, Ralph Metcalfe Federal Building, Lake Michigan conference room, 77 West Jackson Blvd., Chicago, Illinois. The focus of the Committee meeting will be on Administrator Lisa P. Jackson's seven priorities as expressed in her charge to the committee: protecting America's waters; cleaning up our communities; expanding the conversation on environmentalism; improving air quality; taking action on climate change; assuring the safety of chemicals; and building strong partnerships.

SUPPLEMENTARY INFORMATION: This is an open meeting and all interested persons are invited to attend. The Committee will hear comments from the public between 8:40 a.m.-9 a.m. on Friday, July 15, 2011. Individuals or organizations wishing to address the LGAC will be allowed a maximum of five minutes to present their point of view. Also, written comments should be submitted electronically to Zampieri.Paula@epa.gov. Please contact the Designated Federal Officer (DFO) at the number listed below to schedule agenda time.

Public comment will be allotted on a first come first serve basis, and the total period for comments may be extended if the number of requests for appearances requires it. This Small Community Advisory Subcommittee meeting announcement supersedes the July monthly teleconference originally scheduled. The Committee's meeting minutes and summary notes will be available online, within sixty days of the meeting date. Meeting minutes and summary notes can be found online at: http://www.epa.gov/ocir/scas_lgac/lgac_index.htm.

ADDRESSES: The LGAC and SCAS meeting will be held at US EPA Region 5, Ralph Metcalfe Federal Building, Lake Michigan conference room, 77 West Jackson Blvd., Chicago, Illinois.

FOR FURTHER INFORMATION CONTACT: Paula Zampieri, DFO for the Local Government Advisory Committee (LGAC) and Small Community Advisory Subcommittee (SCAS) at (202) 566-2496 or e-mail at Zampieri.Paula@epa.gov.

INFORMATION ON SERVICES FOR THOSE WITH DISABILITIES: For Information on access or services for individuals with disabilities, please contact Paula Zampieri at (202) 566-2496 or Zampieri.Paula@epa.gov. To request accommodation of a disability, please request it 10 days prior to the meeting, to Give EPA as much time as possible to process your request.

Dated: June 9, 2011.
Paula Zampieri,
Designated Federal Officer, Local Government Advisory Committee.

[FR Doc. 2011-15264 Filed 6-17-11; 8:45 am]

BILLING CODE 6560-50-P